ENVIRONMENTAL PROTECTION AGENCY

[FRL-7987-3]

Clean Air Act Advisory Committee (CAAAC): Notice of Meeting

AGENCY: Environmental Protection Agency.

ACTION: Notice of meeting.

SUMMARY: The Environmental Protection Agency (EPA) established the Clean Air Act Advisory Committee (CAAAC) on November 19, 1990, to provide independent advice and counsel to EPA on policy issues associated with implementation of the Clean Air Act of 1990. The Committee advises on economic, environmental, technical scientific, and enforcement policy issues.

DATES: Open meeting notice; Pursuant to 5 U.S.C. App. 2 Section 10(a)(2), notice is hereby given that the Clean Air Act Advisory Committee will hold its next open meeting on Thursday, November 17, 2005, from approximately 8:30 a.m. to 4:30 p.m. at the Camino Real Hotel in El Paso, Texas. Seating will be available on a first come, first served basis. Subcommittee meetings will be held on November 16, 2005 from approximately 8:30 a.m to 12 p.m. at the same location as the full Committee. The Mobile Source Technical Review subcommittee and the Air Quality Management subcommittee will not meet at this time. The agenda for the full committee meeting will be posted on the CAAAC Web site: http://www.epa.gov/oar/caaac/.

Inspection of Committee Documents: The Committee agenda and any documents prepared for the meeting will be publicly available at the meeting. Thereafter, these documents, together with CAAAC meeting minutes, will be available by contacting the Office of Air and Radiation Docket and requesting information under docket OAR-2004-0075. The Docket office can be reached by telephoning 202-260-7548; FAX 202-260-4400.

FOR FURTHER INFORMATION CONTACT: Concerning the CAAAC, please contact Pat Childers, Office of Air and Radiation, U.S. EPA (202) 564-1082, FAX (202) 564-1352 or by mail at U.S. EPA, Office of Air and Radiation (Mail code 6102 A), 1200 Pennsylvania Avenue, NW., Washington, DC 20004. For information on the Subcommittees, please contact the following individuals: (1) Permits/NSR/Toxics Integration—Debbie Stackhouse, (919) 541-5354; and (2) Air Quality Management—Jeff Whitlow, (919) 541-5523 (3) Economic Incentives and Regulatory Innovations—Carey Fitzmaurice, (202)564-1667 (4) Mobile Source Technical Review—Joseph Bachman, (202) 343-9373. Additional Information on these meetings, CAAAC and its Subcommittees can be found on the CAAAC Web site: http://www.epa.gov/oar/caaac/.

For information on access or services for individuals with disabilities, please contact Mr. Pat Childers at (202) 564-1082 or childers.pat@epa.gov. To request accommodation of a disability, please contact Mr. Childers, preferably at least 10 days prior to the meeting, to give EPA as much time as possible to process your request.

Dated October 14, 2005.
Rob Brenner,
Director, Office of Policy, Analysis and Review, Office of Air and Radiation.

[FR Doc. 05-21097 Filed 10-20-05; 8:45 am]

BILLING CODE 6560-50-P